DEPARTMENT OF LABOR

Employee Benefits Security Administration

153rd Meeting of the Advisory Council on Employee Welfare and Pension Benefit Plans; Notice of Meeting

Pursuant to the authority contained in Section 512 of the Employee Retirement Income Security Act of 1974 (ERISA), 29 U.S.C. 1142, the 153rd open meeting of the Advisory Council on Employee Welfare and Pension Benefit Plans will be held on October 4, 2010.

The meeting will take place in C5515—Room 3, U.S. Department of Labor, 200 Constitution Avenue NW., Washington, DC 20210. Public access is available only in this room (i.e. not by telephone). The meeting will run from 12 p.m. to approximately 5 p.m. The purpose of the open meeting is to discuss reports/recommendations for the Secretary of Labor on the issues of (1) Healthcare Literacy, (2) Disparities for Women and Minorities in Retirement, and (3) Employee Benefit Plan Auditing and Financial Reporting Models. Descriptions of these topics are available on the Advisory Council page of the EBSA web site at http://www.dol.gov/ebsa/aboutebsa/erisa_advisory_council.html.

Organizations or members of the public wishing to submit a written statement may do so by submitting 30 copies on or before September 27 to Larry Good, Executive Secretary, ERISA Advisory Council, U.S. Department of Labor, Suite N-5623, 200 Constitution Avenue NW., Washington, DC 20210. Statements also may be submitted as e-mail attachments in text or pdf format transmitted to good.larry@dol.gov. It is requested that statements not be included in the body of the e-mail. Relevant statements received on or before September 27 will be included in the record of the meeting and posted on the Advisory Council page of the EBSA Web site. Do not include any personally identifiable information (such as name, address, or other contact information) or confidential business information that you do not want publicly disclosed. All statements are posted on the Internet exactly as received, and can be retrieved by most Internet search engines. No deletions, modifications, or redactions will be made to the statements received, as they are public records.

Individuals or representatives of organizations wishing to address the Advisory Council should forward their requests to the Executive Secretary or telephone (202) 693-8668. Oral presentations will be limited to ten minutes, time permitting, but an extended statement may be submitted for the record. Individuals with disabilities who need special accommodations should contact Larry Good by September 27 at the address indicated.

Signed at Washington, DC this 14th day of September, 2010.
Michael L. Davis,
Deputy Assistant Secretary, Employee Benefits Security Administration.

[FR Doc. 2010-23304 Filed 9-16-10; 8:45 am]

BILLING CODE 4510-29-P